OFFICE OF PERSONNEL MANAGEMENT

Submission for Review: OPM 1655, Application for Senior Administrative Law Judge, and OPM 1655-A, Geographic Preference Statement for Senior Administrative Law Judge Applicant

AGENCY: Office of Personnel Management.

ACTION: 30-Day Notice and request for comments.

SUMMARY: The Administrative Law Judge Program Office, Office of Personnel Management (OPM) offers the general public and other Federal agencies the opportunity to comment on an information collection request (ICR) 3206-0248, OPM 1655, Application for Senior Administrative Law Judge, and OPM 1655-A, Geographic Preference Statement for Senior Administrative Law Judge Applicant. The information collection was previously published in the Federal Register on November 3, 2017 at 82 FR 51305 allowing for a 60-day public comment period. No comments were received for this information collection. The purpose of this notice is to allow an additional 30 days for public comments.

DATES: Comments are encouraged and will be accepted until June 4, 2018.

ADDRESSES: Interested persons are invited to submit written comments on the proposed information collection to the Office of Information and Regulatory Affairs, Office of Management Budget, 725 17th Street NW, Washington, DC 20503, Attention: Desk Officer for the Office of Personnel Management or sent by email to oira_submission@omb.eop.gov or faxed to (202) 395-6974.

FOR FURTHER INFORMATION CONTACT: A copy of the proposed information collection, with applicable supporting documentation, may be obtained by contacting the Administrative Law Judge Office, Office of Personnel Management, 1900 E Street NW, Washington, DC 20415, Attention: Kyme Williamson, ALJ Program Manager or sent by email to kyme.williamson@opm.gov.

SUPPLEMENTARY INFORMATION: The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

OPM is soliciting comments for this collection under 44 U.S.C. 3507(a)(1)(D) and 5 CFR 1320.5(a)(1)(iv) and 1320.10(a). OPM 1655, Application for Senior Administrative Law Judge, and OPM 1655-A, Geographic Preference Statement for Senior Administrative Law Judge Applicant, are used by retired Administrative Law Judges seeking reemployment on a temporary and intermittent basis to complete hearings of one or more specified case(s) in accordance with the Administrative Procedure Act of 1946. As stated in the prior 60-day notice, OPM proposes to revise the information collection for OPM Form 1655 to clarify, in the instructions, who may apply for the Senior ALJ Program and to list States and territories as geographic locations on OPM Form 1655-A.

Analysis

Agency: Administrative Law Judge Program Office, Office of Personnel Management.

Title: OPM 1655, Application for Senior Administrative Law Judge, and OPM 1655-A, Geographic Preference Statement for Senior Administrative Law Judge Applicant.

OMB Number: 3206-0248.

Frequency: Annually.

Affected Public: Federal Administrative Law Judge Retirees.

Number of Respondents: Approximately 150—OPM 1655/Approximately 200—OPM 1655-A.

Estimated Time per Respondent: Approximately 30-45 Minutes—OPM 1655/Approximately 15-25 Minutes—OPM 1655-A.

Total Burden Hours: Estimated 94 hours—OPM 1655/Estimated 67 hours—OPM 1655-A.

Office of Personnel Management.
Jeff T.H. Pon,
Director.

[FR Doc. 2018-09438 Filed 5-3-18; 8:45 am]

BILLING CODE 6325-43-P